DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before June 22, 2000.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PF-401, at the U.S. Department of Transportation, Nassif Building, 400 7th Street, SW, Washington, DC 20590 or at http://dms.dot.gov.

This notice of receipt of applications for new exemptions is published in accordance with Part 107 of the Federal hazardous materials transportation law (49 U.S.C. 5117(b); 49 CFR 1.53(b)).

Issued in Washington, DC, on May 12, 2000.
J. Suzanne Hedgepeth,
Director, Office of Hazardous Materials, Exemptions and Approvals.

New Exemptions
Application No. | Docket No. | Applicant | Regulation(s) affected | Nature of exemption thereof
12452-N | RSPA-00-7237 | CA Dept. of Health Services, Berkeley, CA | 49 CFR 173.196, 178.609 | To authorize the transportation in commerce of biological specimens classed as infectious substance (Etiologic agent) in specially designed packagings inside mechanical freezers. (mode 1)
12454-N | RSPA-00-7322 | Ethyl Corp., Richmond, VA | 49 CFR 180.509(1), 180.509(e) | To authorize an alternative testing method for DOT class 105 tank cars for use in transporting various classes of hazardous materials. (mode 2)
12455-N | RSPA-00-7320 | United States Marine, Safety Association, Philadelphia, PA | 49 CFR 173.34(e) | To authorize an alternative testing period for 3A, 3AA and 3AL compressed gas cylinders installed in marine inflatable liferafts undergoing required annual service at a United States Coast Guard approved inflatable liferaft service facility. (modes 1, 2, 3, 4)
12457-N | RSPA-00-7371 | Arch Chemicals, Inc., Norwalk, CN | 49 CFR 172.101(i)(3) Col. 8C | To authorize the transportation in commerce of dry calcium hypochlorite mixture, Division 5.1, in DOT specification flexible intermediate bulk containers. (mode 1)
12460-N | RSPA-00-7355 | M&M Service Company, Carinville, IL | 49 CFR 173.315(k) | To authorize the interstate transportation in commerce of a non-DOT specification tank built to MC 330 or MC 331 specifications for use in transporting propane, Division 2.1. (mode 1)

[FR Doc. 00-12872 Filed 5-23-00; 8:45 am]

BILLING CODE 4910-60-M